DEPARTMENT OF COMMERCE

International Trade Administration

[A-201-822]

Stainless Steel Sheet and Strip in Coils From Mexico: Extension of Time Limit for Final Results of Antidumping Duty Administrative Review

AGENCY: Import Administration, International Trade Administration, Department of Commerce.

EFFECTIVE DATE: October 14, 2008.

FOR FURTHER INFORMATION CONTACT: Maryanne Burke, or Robert James, AD/CVD Operations, Office 7, Import Administration, International Trade Administration, U.S. Department of Commerce, 14th Street and Constitution Avenue, NW, Washington, DC 20230; telephone: (202) 482-5604, or (202) 482-0649, respectively.

SUPPLEMENTARY INFORMATION: On August 6, 2008, the Department of Commerce (the Department) published the preliminary results of the administrative review of the antidumping duty order on stainless steel sheet and strip in coils from Mexico for the period July 1, 2006, through June 30, 2007. See Stainless Steel Sheet and Strip in Coils From Mexico; Preliminary Results of Antidumping Duty Administrative Review, 73 FR 45708 (August 6, 2008). The current deadline for the final results of this review is December 4, 2008.

Extension of Time Limits for Final Results

Section 751(a)(3)(A) of the Tariff Act of 1930, as amended (the Act), requires the Department to issue the final results of an administrative review within 120 days after the date on which the preliminary results were published. However, if it is not practicable to complete the review within this time period, section 751(a)(3)(A) of the Act allows the Department to extend the time limit for the final results up to 180 days from the date of publication of the preliminary results.

The Department finds that it is not practicable to complete this review within the original time frame because additional analysis that must be performed with respect to respondent ThyssenKrupp Mexinox S.A. de C.V. and Mexinox USA, Inc.'s cost of production and certain adjustments made to U.S. price. Consequently, and in accordance with section 751(a)(3)(A) of the Act and 19 CFR 351.213(h)(2), the Department is extending the time limit for completion of the final results of this administrative review until no later than February 2, 2009, which is 180 days from the date of publication of the preliminary results. This notice is published in accordance with section 751(a)(3)(A) of the Act.

Dated: October 7, 2008.
Stephen J. Claeys,
Deputy Assistant Secretary for Import Administration.

[FR Doc. E8-24321 Filed 10-10-08; 8:45 am]

BILLING CODE 3510-DS-S